DEPARTMENT OF HOMELAND SECURITY

Transportation Security Administration

[Docket Nos. TSA-2006-24191; Coast Guard—2006-24196]

Transportation Worker Identification Credential (TWIC); Enrollment Dates for the Ports of Juneau, AK; Freeport, TX; Galveston, TX; Anchorage, AK; and Sandusky, OH

AGENCY: Transportation Security Administration; United States Coast Guard; DHS.

ACTION: Notice.

SUMMARY: The Department of Homeland Security (DHS) through the Transportation Security Administration (TSA) issues this notice of the dates for the beginning of the initial enrollment for the Transportation Worker Identification Credential (TWIC) for the Ports of Juneau, AK; Freeport, TX; Galveston, TX; Anchorage, AK; and Sandusky, OH.

DATES: TWIC enrollment begins in Juneau and Galveston on April 30, 2008; Freeport on May 1, 2008; Sandusky on May 7, 2008; and Anchorage on May 8, 2008.

ADDRESSES: You may view published documents and comments concerning the TWIC Final Rule, identified by the docket numbers of this notice, using any one of the following methods.

(1) Searching the Federal Docket Management System (FDMS) Web page at http://www.regulations.gov;

(2) Accessing the Government Printing Office's Web page at http://www.gpoaccess.gov/fr/index.html; or

(3) Visiting TSA's Security Regulations Web page at http://www.tsa.gov and accessing the link for “Research Center” at the top of the page.

FOR FURTHER INFORMATION CONTACT: James Orgill, TSA-19, Transportation Security Administration, 601 South 12th Street, Arlington, VA 22202-4220. Transportation Threat Assessment and Credentialing (TTAC), TWIC Program, (571) 227-4545; e-mail: credentialing@dhs.gov.

Background

The Department of Homeland Security (DHS), through the United States Coast Guard and the Transportation Security Administration (TSA), issued a joint final rule (72 FR 3492; January 25, 2007) pursuant to the Maritime Transportation Security Act (MTSA), Pub. L. 107-295, 116 Stat. 2064 (November 25, 2002), and the Security and Accountability for Every Port Act of 2006 (SAFE Port Act), Pub. L. 109-347 (October 13, 2006). This rule requires all credentialed merchant mariners and individuals with unescorted access to secure areas of a regulated facility or vessel to obtain a TWIC. In this final rule, on page 3510, TSA and Coast Guard stated that a phased enrollment approach based upon risk assessment and cost/benefit would be used to implement the program nationwide, and that TSA would publish a notice in the Federal Register indicating when enrollment at a specific location will begin and when it is expected to terminate.

This notice provides the start date for TWIC initial enrollment at the Ports of Juneau, AK and Galveston, TX on April 30, 2008; Freeport, TX on May 1, 2008; Sandusky, OH on May 7, 2008; and Anchorage, AK on May 8, 2008. The Coast Guard will publish a separate notice in the Federal Register indicating when facilities within the Captain of the Port Zone Southeast Alaska, including those in the Port of Juneau; Captain of the Port Zone Houston/Galveston, including those in the Ports of Freeport and Galveston; Captain of the Port Zone Western Alaska, including those in the Port of Anchorage; and Captain of the Port Zone Detroit, including those in the Port of Sandusky must comply with the portions of the final rule requiring TWIC to be used as an access control measure. That notice will be published at least 90 days before compliance is required.

To obtain information on the pre-enrollment and enrollment process, and enrollment locations, visit TSA's TWIC Web site at http://www.tsa.gov/twic.

Issued in Arlington, Virginia, on April 15, 2008.
Rex Lovelady,
Program Manager, TWIC, Office of Transportation Threat Assessment and Credentialing, Transportation Security Administration.

[FR Doc. E8-8423 Filed 4-17-08; 8:45 am]

BILLING CODE 9110-05-P